SURFACE TRANSPORTATION BOARD

[Docket No. FD 36502]

Lubbock & Western Railway, L.L.C.—Lease and Operation Exemption With Interchange Commitment—BNSF Railway Company

Lubbock & Western Railway, L.L.C. (LWR), a Class III rail carrier, has filed a verified notice of exemption under 49 CFR 1150.41 to lease from BNSF Railway Company (BNSF) and operate a line of railroad extending between milepost 330.100 and milepost 327.155 in Plainview, Tex., a portion of the Dimmit Spur subdivision (the Line).

The verified notice states that LWR and BNSF have entered into a lease agreement and that LWR will operate and provide all rail common carrier service to shippers on the Line.¹

¹ According to the verified notice, the Line adjoins an existing LWR-operated rail line at milepost 330.100. See Lubbock & W. Ry.—Acquis. & Operation Exemption—W. Tex. & Lubbock Ry., FD 35932 (STB served June 5, 2015).

LWR certifies that its projected annual revenues from this transaction will not result in LWR's becoming a Class I or Class II rail carrier. Pursuant to 49 CFR 1150.42(e), which applies “[i]f the projected annual revenue of the rail lines to be acquired or operated, together with the acquiring carrier's projected annual revenue, exceeds $5 million,” LWR posted the 60-day notice of the transaction required by 1150.42(e) at the workplaces of current BNSF employees on the Line, served the notice on the national offices of the labor unions for those employees, and certified to the Board on April 7, 2021, that it had done so.

As required under 49 CFR 1150.43(h)(1), LWR has disclosed in its verified notice that its lease agreement with BNSF contains an interchange commitment and has provided additional information regarding the interchange commitment as required by 49 CFR 1150.43(h).

The earliest this transaction may be consummated is June 6, 2021 (60 days after the certification under 49 CFR 1150.42(e) was filed).

If the notice contains false or misleading information, the exemption is void ab initio. Petitions to revoke the exemption under 49 U.S.C. 10502(d) may be filed at any time. The filing of a petition to revoke will not automatically stay the effectiveness of the exemption. Petitions for stay must be filed no later than May 28, 2021.

All pleadings, referring to Docket No. FD 36502, should be filed with the Surface Transportation Board via e-filing on the Board's website. In addition, one copy of each pleading must be served on LWR's representative: Bradon J. Smith, Fletcher & Sippel LLC, 29 North Wacker Drive, Suite 800, Chicago, IL 60606.

According to LWR, this action is categorically excluded from environmental review under 49 CFR 1105.6(c) and from historic preservation reporting requirements under 49 CFR 1105.8(b).

Board decisions and notices are available at www.stb.gov.

Decided: May 17, 2021.
By the Board, Scott M. Zimmerman, Acting Director, Office of Proceedings.
Eden Besera,
Clearance Clerk.

[FR Doc. 2021-10757 Filed 5-20-21; 8:45 am]

BILLING CODE 4915-01-P